DEPARTMENT OF COMMERCE

International Trade Administration

[C-533-825]

Polyethylene Terephthalate Film, Sheet and Strip from India: Preliminary Intent to Rescind Countervailing Duty Administrative Review

AGENCY: Import Administration, International Trade Administration, Department of Commerce.

DATES: Effective Date: February 21, 2012.

FOR FURTHER INFORMATION CONTACT: Toni Page, Import Administration, International Trade Administration, U.S. Department of Commerce, 14th Street and Constitution Avenue NW., Washington, DC 20230; telephone: (202) 482-1398.

SUPPLEMENTARY INFORMATION:

Background

On July 1, 2011, the Department of Commerce (Department) published a notice of opportunity to request an administrative review of the countervailing duty (CVD) order on polyethylene terephthalate film, sheet and strip from India covering the period January 1, 2010, through December 31, 2010. See Antidumping or Countervailing Duty Order, Finding, or Suspended Investigation; Opportunity To Request Administrative Review, 76 FR 38609, 38610 (July 1, 2011). The Department received a timely request from Petitioners ¹ for a CVD administrative review of five companies: Ester Industries Limited (Ester), Garware Polyester Ltd. (Garware), Jindal Poly Films Limited of India (Jindal), Polyplex Corporation Ltd. (Polyplex), and SRF Limited (SRF). The Department also received timely requests for a CVD review from Vacmet India Ltd. (Vacmet) and Polypacks Industries of India (Polypacks).

¹ Petitioners are DuPont Teijin Films, Mitsubishi Polyester Film, Inc., SKC, Inc. and Toray Plastics (America), Inc.

On August 26, 2011, the Department published a notice of initiation of administrative review with respect to Ester, Garware, Jindal, Polyplex, SRF, Vacmet, and Polypacks. See Initiation of Antidumping and Countervailing Duty Administrative Reviews and Requests for Revocation in Part, 76 FR 53404 (August 26, 2011). Subsequently, Vacmet and Polypacks timely withdrew their requests for an administrative review; on September 20, 2011, the Department published a rescission, in part, of the CVD administrative review with respect to Vacmet and Polypacks. See Polyethylene Terephthalate Film, Sheet and Strip From India: Rescission, In Part, of Countervailing Duty Administrative Review, 76 FR 58248 (September 20, 2011).

On September 12, 2011, SRF filed a certification of no shipments and requested that the Department rescind the CVD administrative review of the company.

On November 25, 2011, Petitioners timely withdrew their request for CVD administrative reviews of Ester, Garware, Polyplex, and Jindal. The Department published a rescission, in part, of the CVD administrative review with respect to Ester, Garware, Polyplex, and Jindal on January 11, 2012. See Polyethylene Terephthalate Film, Sheet and Strip From India: Rescission, In Part, of Countervailing Duty Administrative Review, 77 FR 1668 (January 11, 2012). The administrative review of SRF continued.

Scope of the Order

The products covered by the order are all gauges of raw, pretreated, or primed polyethylene terephthalate film, sheet and strip, whether extruded or coextruded. Excluded are metallized films and other finished films that have had at least one of their surfaces modified by the application of a performance-enhancing resinous or inorganic layer of more than 0.00001 inches thick. Imports of polyethylene terephthalate film, sheet and strip are classifiable in the Harmonized Tariff Schedule of the United States (HTSUS) under item number 3920.62.00.90. HTSUS subheadings are provided for convenience and customs purposes. The written description of the scope of the order is dispositive.

Intent To Rescind the 2010 Countervailing Duty Administrative Review

SRF submitted a letter to the Department on September 12, 2011, certifying that it had no shipments of subject merchandise that entered the United States during calendar year 2010, which is the period of review (POR). Petitioners did not comment on SRF's claim of no shipments or entries.

Previously, on September 1, 2011, the Department released the results of a U.S. Customs and Border Protection (CBP) data query to interested parties with an administrative protective order for this segment of the administrative review, which showed SRF had no suspended entries of subject merchandise during the POR. After the receipt of SRF's no shipment certification, we sent a “no shipments inquiry” message to CBP, which posted the message on October 12, 2011.² We have not received any responses from CBP regarding the no shipments inquiry indicating that there were any suspended entries from SRF during the POR. See Memorandum to the File through Barbara E. Tillman, Director, AD/CVD Operations, Office 6, “Claim of No Shipments from SRF Limited in the 2010 Administrative Review of the Countervailing Duty Order on Polyethylene Terephthalate Film, Sheet and Strip from India” (dated concurrently with this notice).

² See Message number 1285302, available at http://addcvd.cbp.gov/index.asp.

Based on our analysis of all of the information on the record, we preliminarily determine that SRF had no shipments or entries of subject merchandise during the POR. Therefore, in accordance with 19 CFR 351.213(d)(3), and consistent with our practice,³ we preliminarily determine to rescind the review for SRF. Because SRF is the sole remaining company in this administrative review, the rescission of the review with respect to SRF would result in a rescission of the administrative review in its entirety.

³ See, e.g., Welded Carbon Steel Standard Pipe and Tube from Turkey: Notice of Rescission of Countervailing Duty Administrative Review, In Part, 74 FR 47921 (September 18, 2009).

Public Comment

The Department is setting aside a period for interested parties to raise issues regarding the Department's preliminary intent to rescind the administrative review for SRF. Interested parties should submit such comments within 20 calendar days of the publication of this notice. Comments must be filed electronically via Import Administration's Antidumping and Countervailing Duty Centralized Electronic Service System (IA ACCESS) (https://iaaccess.trade.gov/). The period for public comment is intended to provide the Department with ample opportunity to consider all views prior to making a final determination concerning whether to rescind the administrative review.

We are issuing this notice in accordance with section 777(i)(1) of the Tariff Act of 1930, as amended, and 19 CFR 351.213(d)(4).

Dated: February 14, 2012.
Christian Marsh,
Deputy Assistant Secretary for Antidumping and Countervailing Duty Operations.

[FR Doc. 2012-3972 Filed 2-17-12; 8:45 am]

BILLING CODE 3510-DS-P